NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Andrew Titmus, ACA Permit Officer, Office of Polar Programs, National Science Foundation, 2415 Eisenhower Avenue, Alexandria, VA 22314; 603-292-4479; email: ACApermits@nsf.gov.

SUPPLEMENTARY INFORMATION: On August 8, 2023, the National Science Foundation published a notice in the Federal Register of permit applications received. The permits were issued on the following dates:

1. Ron Naveen, Permit No. 2024-001, September 6, 2023

2. Heather Lynch, Permit No. 2024-002, September 6, 2023

On August 9, 2023, the National Science Foundation published a notice in the Federal Register of permit applications received. The permits were issued on the following dates:

1. Chris Linder, Permit No. 2024-003, September 8, 2023

2. Paul Ponganis, Permit No. 2024-004, September 8, 2023

3. Rachael Herman, Permit No. 2024-005, September 8, 2023

On August 14, 2023, the National Science Foundation published a notice in the Federal Register of a permit application received. The permit was issued on the following date:

1. Megan Cimino, Permit No. 2024-006, September 13, 2023

On August 25, 2023, the National Science Foundation published a notice in the Federal Register of a permit applications received. The permit was issued on the following dates:

1. Scenic, Permit No. 2022-013, September 25, 2023

On September 11, 2023, the National Science Foundation published a notice in the Federal Register of permit applications received. The permits were issued on the following dates:

1. Logan Pallin, Permit No. 2024-007, October 11, 2023

2. Heather Lynch, Permit No. 2024-008, October 11, 2023

On September 15, 2023, the National Science Foundation published a notice in the Federal Register of a permit application received. The permit was issued on the following date:

1. Poseidon, Permit No. 2024-009, October 16, 2023

On September 20, 2023, the National Science Foundation published a notice in the Federal Register of a permit application received. The permit was issued on the following date:

1. Ron Naveen, Permit No. 2024-010, October 20, 2023

On September 26, 2023 the National Science Foundation published a notice in the Federal Register of a permit application received. The permit was issued on the following date:

1. Grant Ballard, Permit No. 2021-004, October 26, 2023

On October 2, 2023, the National Science Foundation published a notice in the Federal Register of a permit application received. The permit was issued on the following date:

1. Alia Khan, Permit No. 2024-011, October 26, 2023

On October 10, 2023, the National Science Foundation published a notice in the Federal Register of permit applications received. The permits were issued on the following dates:

1. Seabourn, Permit No. 2024-012, November 9, 2023

2. Sea Shepherd, Permit No. 2024-013, November 9, 2023

On November 7, 2023, the National Science Foundation published a notice in the Federal Register of permit application received. The permit was issued on the following date:

1. Chris Eckstrom, Permit No. 2024-014, December 7, 2023

On November, 14, 2023, the National Science Foundation published a notice in the Federal Register of permit applications received. The permits were issued on the following dates:

1. Sarah Ruth, Permit No. 2024-015, December 14, 2023

2. Princess, Permit No. 2024-016, December 14, 2023

3. Lindblad, Permit No. 2024-017, December 14, 2023

On December 12, 2023, the National Science Foundation published a notice in the Federal Register of permit applications received. The permit was issued on the following date:

1. Sarah Kienle, Permit No. 2024-018, January 11, 2024

On December 14, 2023, the National Science Foundation published a notice in the Federal Register of permit applications received. The permits were issued on the following dates:

1. EYOS, Permit No. 2024-019, January 16, 2024

2. The World, Permit No. 2024-020, January 16, 2024

Kimiko S. Bowens-Knox,
Program Analyst, Office of Polar Programs.

[FR Doc. 2024-01712 Filed 1-26-24; 8:45 am]

BILLING CODE 7555-01-P